STATE JUSTICE INSTITUTE

SJI Board of Directors Meeting, Notice

AGENCY: State Justice Institute.

ACTION: Notice of meeting.

SUMMARY: The purpose of this meeting is to consider grant applications for the 2nd quarter of FY 2025, and other business.

DATES: The SJI Board of Directors will be meeting on Monday, April 7, 2025 at 1 p.m. ET.

ADDRESSES: Supreme Court of Indiana, 200 West Washington Street, Indianapolis, IN.

FOR FURTHER INFORMATION CONTACT: Jonathan Mattiello, Executive Director, State Justice Institute, 12700 Fair Lakes Circle, Suite 340, Fairfax, VA 22033, 703-660-4979, contact@sji.gov.

(Authority: 42 U.S.C. 10702(f))

Jonathan D. Mattiello,
Executive Director.

[FR Doc. 2025-04491 Filed 3-18-25; 8:45 am]

BILLING CODE 6820-SC-P